DEPARTMENT OF ENERGY

Federal Energy Regulatory Commission

[Project No. 2934-029]

New York State Electric & Gas Corporation; Notice of Settlement Agreement

Take notice that the following settlement agreement has been filed with the Commission and is available for public inspection.

a. Type of Application: Settlement Agreement.

b. Project No.: 2934-029.

c. Date Filed: April 8, 2020.

d. Applicant: New York State Electric & Gas Corporation (NYSEG).

e. Name of Project: Upper Mechanicville Hydroelectric Project (Project).

f. Location: On the Hudson River, in Saratoga and Rensselaer Counties, New York. The project does not occupy any federal land.

g. Filed Pursuant to: Rule 602 of the Commission's Rules of Practice and Procedure, 18 CFR 385.602.

h. Applicant Contact: David W. Dick, Manager, NYSEG and RG&E Hydro Engineering, 1300 Scottsville Road, Rochester, NY 14624; (585) 724-8535; david_dick@rge.com.

i. FERC Contact: Jody Callihan, (202) 502-8278 or jody.callihan@ferc.gov.

j. Deadline for filing comments: Comments on the Settlement Agreement are due on Thursday, April 30, 2020. Reply comments are due on Monday, May 11, 2020.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. NYSEG filed an Offer of Settlement (Settlement Agreement) on behalf of itself, the New York State Department of Environmental Conservation (New York DEC), U.S. Fish and Wildlife Service, and New York State Council of Trout Unlimited. The Settlement Agreement includes protection, mitigation, and enhancement measures addressing impoundment elevations and allowable fluctuations, a seasonal minimum flow, fish passage and protection for American eel, and by reference, management plans for northern long-eared bat (Appendix A), bald eagles (Appendix B), and invasive species (Appendix D). NYSEG requests that the measures in the Settlement Agreement be incorporated as license conditions, without modification, in any new license issued for the project. The signatories to the Settlement Agreement also request a 50-year license term for the project.

l. A copy of the Settlement Agreement is available for review on the Commission's website at http://www.ferc.gov using the “eLibrary” link. Enter the docket number, excluding the last three digits, in the docket number field to access the document. For assistance, contact FERC Online Support.

Register online at http://www.ferc.gov/docs-filing/esubscription.asp to be notified via email of new filings and issuances related to this or other pending projects. For assistance, contact FERC Online Support.

Dated: April 10, 2020.
Nathaniel J. Davis, Sr.,
Deputy Secretary.

[FR Doc. 2020-08023 Filed 4-15-20; 8:45 am]

BILLING CODE 6717-01-P